DEPARTMENT OF AGRICULTURE

Submission for OMB Review; Comment Request

September 22, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Innovation for Healthy Kids Challenge to Promote the Open Government Initiative.

OMB control number: 0584-0555.

Summary of collection: The demand for innovative and relevant nutrition education technologies is needed to address the epidemic rates of obesity within the U.S. population and address the promotion of the most recent version of the Dietary Guidelines for Americans. The Center for Nutrition Policy and Promotion (CNPP) of the U.S. Department of Agriculture invites developers, programmers, highly motivated gamers and the general public to develop creative and educational games and applications that are based on the Food Nutrition and Consumer Services Dataset. With childhood obesity continuing to rise, the goal of the Challenge is to motivate talented individuals to create innovative, fund, and engaging applications or games that encourage parents and children, especially “tweens” (aged 9-12) to eat more healthfully and be more physically active. The statutory requirements for this collection can be found in the Department of Agriculture Organic Act of 1862, 7 U.S.C. 2201, the National Agricultural Research, Extension, and Teaching Policy Act of 1977 and the National Nutrition Monitoring and Related Research Act of 1990.

Need and use of the information: The information will be collected from individuals, companies, organizations, and government agencies to create challenges and award prizes for solving problems. The purpose of the contest is to develop new and innovative technology to reach children, ages 9-12, either directly or through their parents using the MyPyramid Dataset. This initiative will not only increase access to socially relevant technologies that seek to improve eating and physical activity behaviors among children but could also expand the tools available through the MyPyramid Web site. The contest will explore ways to address the following behavioral objectives: (1) Increase consumption of whole grains, fruit and vegetables, low-or non-fat milk, and lean sources of protein; (2) Develop temporary and relevant nutrition education tools for kids; (3) Address calorie intake and food portion sizes; (4) Increase physical activity. Inability to collect this information will result in a decrease in effort for contributing to the goal of achieving the President's Open Government Initiative.

Description of respondents: Individuals or household; Business or other for-profit; Not-for-profit institutions.

Number of respondents: 100.

Frequency of responses: Third Party disclosure; Reporting: Annually:

Total burden hours: 5,525.

Ruth Brown,
Departmental Information Collection Clearance Officer.

[FR Doc. 2010-24298 Filed 9-27-10; 8:45 am]

BILLING CODE 3410-30-P